DEPARTMENT OF DEFENSE

Department of the Army, Corps of Engineers

Intent to Prepare an Environmental Impact Statement for the Dam Safety Assurance Evaluation Report, Dover Dam, City of Dover, Tuscarawas County, OH

Correction

In notice document 06-4234 beginning on page 26479 in the issue of Friday, May 5, 2006, make the following corrections:

1. On page 26479, in the third column, in the fourth line, “david.m.reiger@1rh01. usace.army.mil.” should read “david.m.rieger@ lrh01.usace.army.mil”.

2. On the same page, in the same column, under the FOR FURTHER INFORMATION CONTACT heading, in the last two lines, “Rodney.G.Cremeans @irh01.usace.army.mil” should read “Rodney.G.Cremeans@lrh01. usace.army.mil”.

[FR Doc. C6-4234 Filed 5-10-06; 8:45 am]

BILLING CODE 1505-01-D

ENVIRONMENTAL PROTECTION AGENCY

40 CFR Part 80

[EPA-HQ-OAR-2005-0170 FRL-8167-4]

Regulation of Fuels and Fuel Additives: Removal of Reformulated Gasoline Oxygen Content Requirement and Revision of Commingling Prohibitions To Address Non-Oxygenated Reformulated Gasoline; Partial Withdrawal; Correction

Correction

In rule document 06-4253 beginning on page 26419 in the issue of Friday, May 5, 2006, make the following correction:

§ 80.79 [Corrected]

On page 26420, in the third column, in § 80.79, in the second to last line, the phrase “paragraphs (a)(5) and (c)(1) to read as” should read “paragraph (a)(5) to read as”.

[FR Doc. C6-4253 Filed 5-10-06; 8:45 am]

BILLING CODE 1505-01-D

DEPARTMENT OF LABOR

Employee Benefits Security Administration

RIN 1210-AB03

Voluntary Fiduciary Correction Program Under the Employee Retirement Income Security Act of 1974

Correction

In notice document 06-3674 beginning on page 20262 in the issue of Wednesday, April 19, 2006 make the following correction:

On page 20283, in the Table, under the column, “1st day” in the first entry, “14/14/01” should read “4/14/01”.

[FR Doc. C6-3674 Filed 5-10-06; 8:45 am]

BILLING CODE 1505-01-D